DEPARTMENT OF ENERGY

Federal Energy Regulatory Commission

[Docket No. EL11-66-000]

Martha Coakley, Attorney General of the Commonwealth of Massachusetts, Connecticut Public Utilities Regulatory Authority, et al. v. Bangor Hydro-Electric Company, Central Maine Power Company, et al.; Notice of Complaint

Martha Coakley, Attorney General of the Commonwealth of Massachusetts, Connecticut Public Utilities Regulatory Authority, Massachusetts Department of Public Utilities, New Hampshire Public Utilities Commission, George Jepsen, Attorney General of the State of Connecticut, Connecticut Office of Consumer Counsel, Maine Office of the Public Advocate, New Hampshire Office of the Consumer Advocate, Rhode Island Division of Public Utilities and Carriers, Vermont Department of Public Service, Massachusetts Municipal Wholesale Electric Company, Associated Industries of Massachusetts, The Energy Consortium, Power Options, Inc., Industrial Energy Consumer Groupv. Bangor Hydro-Electric Company, Central Maine Power Company, New England Power Company, New Hampshire Transmission LLC, Northeast Utilities Service Company, on behalf of its operating company affiliates: The Connecticut Light and Power Company, Western Massachusetts Electric Company, Public Service Company of New Hampshire, NSTAR Electric & Gas Corporation, The United Illuminating Company, Unitil Energy Systems, Inc., Fitchburg Gas and Electric Light Company, Vermont Transco, LLC, ISO New England Inc.

Notice of Complaint

Take notice that on September 30, 2011, Pursuant to sections 206 and 306 of the Federal Power Act (“FPA”), 16 U.S.C. 824e and 825e and Rule 206 of the Rules of Practice and Procedure of the Federal Energy Regulatory Commission (Commission), 18 CFR 385.206 (2011), Martha Coakley, Attorney General of the Commonwealth of Massachusetts (Massachusetts Attorney General), Connecticut Public Utilities Regulatory Authority (CT PURA), Massachusetts Department of Public Utilities (Mass DPU), New Hampshire Public Utilities Commission (NH PUC), George Jepsen, Attorney General of the State of Connecticut (Connecticut Attorney General), Connecticut Office of Consumer Counsel, Maine Office of the Public Advocate, New Hampshire Office of the Consumer Advocate, (NH OCA), Rhode Island Division of Public Utilities and Carriers, Vermont Department of Public Service (VDPS), Massachusetts Municipal Wholesale Electric Company (MMWEC), Associated Industries of Massachusetts, The Energy Consortium, Power Options, Inc., and the Industrial Energy Consumer Group (IECG) (collectively Complainants) filed a formal complaint against Bangor Hydro-Electric Company (BHE); Central Maine Power Company (CMP), New England Power Company, New Hampshire Transmission LLC d/b/a NextEra (NHT); NSTAR Electric and Gas Corporation (NSTAR), Northeast Utilities Service Company (NUSCO), on behalf of its operating company affiliates: The Connecticut Light and Power Company (CL&P), Western Massachusetts Electric Company (WMECO), and Public Service Company of New Hampshire (PSNH), The United Illuminating Company (UI), Unitil Energy Systems, Inc. and Fitchburg Gas and Electric Light Company (Unitil), Vermont Transco, LLC (Vermont Transco) (collectively, New England Transmission Owners or TOs) and ISO New England Inc. (ISO-NE or ISO) (collectively Respondents) seeking an order to reduce the 11.14 percent base return on equity (Base ROE) used in calculating formula rates for transmission service under the ISO-NE Open Access Transmission Tariff (OATT) to a just and reasonable level at 9.2 percent.

Complainants certify that copies of the Complaint were served on the contacts for the TOs and ISO-NE as listed on the Commission's list of Corporate Officials and on parties and the regulatory agencies the State Complainants reasonably expect to be affected by this Complaint.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 20, 2011.

Dated: September 30, 2011.
Kimberly D. Bose,
Secretary.

[FR Doc. 2011-25963 Filed 10-6-11; 8:45 am]

BILLING CODE 6717-01-P